DEPARTMENT OF HEALTH AND HUMAN SERVICES

Administration for Children and Families

President's Committee for People With Intellectual Disabilities Notice of Meeting

AGENCY: President's Committee for People with Intellectual Disabilities (PCPID).

ACTION: Notice of Quarterly Meeting.

DATES: June 25, 2008, from 9 a.m. to 5 p.m. EST; June 26, 2008, from 2:30 p.m. to 5 p.m.; and June 27, 2008, from 8:30 a.m. to 12 p.m. EST. The meeting will be open to the public.

ADDRESSES: The meeting will be held in Room 800 of the Hubert H. Humphrey Building, 200 Independence Ave., SW., Washington, DC 20201. Individuals who would like to participate via conference call may do so by dialing 888-810-4935, passcode: PCPID. Individuals who will need accommodations for a disability in order to attend the meeting (e.g., sign language interpreting services, assistive listening devices, materials in alternative format such as large print or Braille) should notify MJ Karimi via e-mail at Madjid.KarimieAsl@ACF.hhs.gov, or via telephone at 202-619-0634, no later than June 18, 2008. PCPID will attempt to meet requests made after that date, but cannot guarantee availability. All meeting sites are barrier free.

Agenda: PCPID will meet to swear in the new members of the Committee and set the agenda for the coming year.

Additional Information: For further information, please contact Sally D. Atwater, Executive Director, President's Committee for People with Intellectual Disabilities, The Aerospace Center, Second Floor West, 370 L'Enfant Promenade, SW., Washington, DC 20447. Telephone: 202-619-0634. Fax: 202-205-9591. E-mail: satwater@acf.hhs.gov.

SUPPLEMENTARY INFORMATION: PCPID acts in an advisory capacity to the President and the Secretary of Health and Human Services on a broad range of topics relating to programs, services and supports for persons with intellectual disabilities. PCPID, by Executive Order, is responsible for evaluating the adequacy of current practices in programs, services and supports for persons with intellectual disabilities, and for reviewing legislative proposals that impact the quality of life experienced by citizens with intellectual disabilities and their families.

Dated: June 5, 2008.
Sally D. Atwater,
Executive Director, President's Committee for People with Intellectual Disabilities.

[FR Doc. E8-13091 Filed 6-10-08; 8:45 am]

BILLING CODE 4184-01-P